OFFICE OF GOVERNMENT ETHICS

Privacy Act of 1974; Systems of Records

AGENCY: Office of Government Ethics (OGE).

ACTION: Notice of a modified system of records.

SUMMARY: The U.S. Office of Government Ethics (OGE) proposes to revise one of its existing internal systems of records under the Privacy Act, currently called OGE/INTERNAL-1, Pay, Leave, Travel, and Reasonable Accommodation Records. It contains records related to OGE employees' pay, leave, and travel, including information regarding leave accrual rate, usage, and balances, salary withholdings, travel expenses, and usage of the transit fare subsidy program. OGE proposes to add additional financial reimbursement records and rename the system of records OGE/INTERNAL-1, Employee Leave, Travel, Reasonable Accommodation, and Payment Records.

DATES: The revisions and rescindment will be effective on May 12, 2022, subject to a 30-day period in which to comment on the new routine uses, described below. Please submit any comments by June 13, 2022. The new routine uses will be effective on that date.

ADDRESSES: Comments may be submitted to OGE by any of the following methods:

Email: usoge@oge.gov (Include reference to “OGE Internal 1” in the subject line of the message.)

Mail, Hand Delivery/Courier: Office of Government Ethics, Suite 500, 1201 New York Avenue NW, Attention: Jennifer Matis, Associate Counsel, Washington, DC 20005-3917.

Instructions: Comments may be posted on OGE's website, www.oge.gov. Sensitive personal information, such as account numbers or Social Security numbers, should not be included. Comments generally will not be edited to remove any identifying or contact information before posting.

FOR FURTHER INFORMATION CONTACT: Jennifer Matis at the U.S. Office of Government Ethics; telephone: 202-482-9216; TTY: 800-877-8339; Email: jmatis@oge.gov.

SUPPLEMENTARY INFORMATION: In accordance with the Privacy Act of 1974, 5 U.S.C. 552a, this document provides public notice that OGE is proposing to revise the OGE/INTERNAL-1 system of records to include all records regarding financial reimbursements to employees.

Accordingly, OGE publishes the following notice of revision:

SYSTEM NAME AND NUMBER:

OGE/INTERNAL-1, Employee Leave, Travel, Reasonable Accommodation, and Payment Records

SECURITY CLASSIFICATION:

Unclassified.

SYSTEM LOCATION:

Office of Government Ethics, Suite 500, 1201 New York Avenue NW, Washington, DC 20005-3917.

SYSTEM MANAGER(S):

Deputy Director for Compliance, Office of Government Ethics, Suite 500, 1201 New York Avenue NW, Washington, DC 20005-3917, email: usoge@oge.gov.

AUTHORITY FOR MAINTENANCE OF THE SYSTEM:

5 U.S.C. 5525; 5 U.S.C. App. (Ethics in Government Act of 1978); 44 U.S.C. 3101, 3102; 29 U.S.C. 701 et seq. (Rehabilitation Act of 1973); 42 U.S.C. Section 2000e (Title VII of the Civil Rights Act); 31 U.S.C. 3511; Executive Order 13164; 29 CFR 1605 and 1614.

PURPOSE(S) OF THE SYSTEM:

These records are used to administer the pay, leave, and travel requirements of the Office of Government Ethics, including the administration of the transit fare subsidy program and the authorization of reimbursement payments to employees. The records are also used to collect and maintain records on employees who request or receive reasonable accommodation as required by the Rehabilitation Act of 1973 and Title VII of the Civil Rights Act.

CATEGORIES OF INDIVIDUALS COVERED BY THE SYSTEM:

Current employees of the Office of Government Ethics. The records may be retained after an employee leaves the Office of Government Ethics.

CATEGORIES OF RECORDS IN THE SYSTEM:

This system contains various records relating to pay, leave, travel, reimbursements, and requests for reasonable accommodations pursuant to the Rehabilitation Act of 1973 and Title VII of the Civil Rights Act. This includes information such as: Name; date of birth; social security number; home address; grade; employing organization; disability status, religious affiliation, accommodation requested and/or granted, timekeeper number; salary; pay plan; number of hours worked; leave accrual rate, usage, and balances; Civil Service Retirement and Federal Employees Retirement System contributions; FICA withholdings; Federal, state, and local tax withholdings; Federal Employee's Group Life Insurance withholdings; Federal Employee's Health Benefits withholdings; charitable deductions; allotments; garnishment documents; travel and other expenses; and information on the leave transfer program and fare subsidy program.

RECORD SOURCE CATEGORIES:

Information in this system of records is obtained from:

a. The individual to whom the record pertains.

b. Office of Government Ethics officials responsible for administering agency leave, travel, reasonable accommodation, and payment functions.

c. Other official personnel documents of the Office of Government Ethics.

ROUTINE USES:

a. To disclose pertinent information to the appropriate Federal, State, or local agency responsible (hereinafter “responsible agency”) for investigating, prosecuting, enforcing, or implementing a statute, rule, regulation, or order, when the record either alone or in conjunction with other information indicates a violation or potential violation of civil or criminal law or regulation.

b. To disclose information when OGE determines that that the records are arguably relevant and necessary to a proceeding before a court, grand jury, or administrative or adjudicative body; or in a proceeding before an administrative or adjudicative body when the adjudicator determines the records to be relevant and necessary to the proceeding.

c. To disclose information to the National Archives and Records Administration or the General Services Administration in records management inspections conducted under authority of 44 U.S.C. 2904 and 2906.

d. To disclose information to the Office of Management and Budget at any stage in the legislative coordination and clearance process in connection with private relief legislation as set forth in OMB Circular No. A-19.

e. To disclose information to a Member of Congress or a congressional office in response to an inquiry made on behalf of, and at the request of, an individual who is the subject of the record.

f. To disclose information to contractors, grantees, experts, consultants, detailees, and other non-OGE employees performing or working on a contract, service, or other assignment for the Federal Government, when necessary to accomplish an agency function related to this system of records.

g. To disclose information to the Department of Labor in connection with a claim filed by an employee for compensation due to a job-connected injury or illness.

h. To disclose information to the Social Security Administration (SSA) and the Department of the Treasury as required in accordance with their authorized functions, including Federal Insurance Collections Act withholding and benefits for the SSA and the issuance of paychecks and savings bonds for the Treasury.

i. To disclose information to State offices of unemployment compensation.

j. To disclose information to Federal Employees Group Life Insurance or Health Benefits carriers in connection with survivor annuity or health benefits claims or records reconciliations.

k. To disclose information to the Internal Revenue Service and State and local tax authorities.

l. To disclose information to any source from which additional information is requested relevant to an OGE determination concerning an individual's pay, leave, or expenses, to the extent necessary to identify the individual, inform the source of the purpose(s) of the request, and to identify the type of information requested.

m. To disclose information to a Federal agency, in response to its request in connection with the hiring or retention of an employee, the issuance of a security clearance, the conducting of a suitability or security investigation of an individual, the letting of a contract, or the issuance of a license, grant, or other benefit by the requesting agency, to the extent that the information is relevant and necessary to the requesting agency's decision on the matter.

n. To disclose information to the authorized employees of another Federal agency that provides the Office of Government Ethics with manual and automated assistance in processing payments, leave, and travel.

o. To disclose information to officials of the Office of Special Counsel, Office of Personnel Management, Federal Labor Relations Authority, Merit Systems Protection Board or the Equal Employment Opportunity Commission when requested in the performance of their authorized duties, including respectively in connection with cases and appeals, special studies of the civil service and other merit systems, review of personnel matters and practices, investigations of alleged or possible prohibited personnel and discrimination practices, Hatch Act matters, whistleblower protections, compliance with employee selection procedures and investigations of allegations of unfair labor practices or matters before the Federal Service Impasses Panel.

p. To provide information to officials of labor organizations recognized under 5 U.S.C. chapter 71 when relevant and necessary to their duties of exclusive representation concerning personnel policies, practices, and matters affecting working conditions.

q. To disclose the names, social security numbers, home addresses, date of birth, date of hire, quarterly earnings, employer identifying information, and State of hire of employees to the Office of Child Support Enforcement, Administration for Children and Families, Department of Health and Human Services for the purposes of locating individuals to establish paternity, establishing and modifying orders of child support, identifying sources of income, and for other child support enforcement actions as required by the Personal Responsibility and Work Opportunity Reconciliation Act, Public Law 104-193, as amended.

r. To disclose information to appropriate agencies, entities, and persons when: (1) OGE suspects or has confirmed that there has been a breach of the system of records; (2) OGE has determined that as a result of the suspected or confirmed breach there is a risk of harm to individuals, the agency (including its information systems, programs, and operations), the Federal Government, or national security; and (3) the disclosure made to such agencies, entities, and persons is reasonably necessary to assist in connection with OGE's efforts to respond to the suspected or confirmed breach or to prevent, minimize, or remedy such harm.

s. To disclose information to another Federal agency or Federal entity, when OGE determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

These records are maintained in paper and/or electronic form.

POLICIES AND PRACTICES FOR RETRIEVAL OF RECORDS:

These records are retrieved by the name, social security number, or other identifier assigned to the individual on whom they are maintained.

POLICIES AND PRACTICES FOR RETENTION AND DISPOSAL OF RECORDS:

These records are retained in accordance with the National Archives and Records Administration General Records Schedule (GRS) as follows:

a. GRS 2.3: Employee Relations Records;

b. GRS 2.4: Employee Compensation and Benefits Records; and

c. GRS 1.1: Financial Management and Reporting Records.

Disposal of paper records is by shredding, and disposal of electronic records is by deletion.

ADMINISTRATIVE, TECHNICAL, AND PHYSICAL SAFEGUARDS:

Paper records are maintained in locked file storage areas or in specified areas to which only authorized personnel have access. Electronic records are protected from unauthorized access through password identification procedures, limited access, firewalls, and other system-based protection methods.

RECORD ACCESS PROCEDURES:

Individuals requesting access to this system of records must follow the procedures set forth in OGE's Privacy Act regulations at 5 CFR part 2606.

CONTESTING RECORD PROCEDURES:

Individuals wishing to request amendment of records about themselves should contact the System Manager. Individuals must furnish the following information for their records to be located and identified:

a. Full name.

b. Social Security Number.

c. Dates of employment.

Individuals requesting amendment must also follow OGE's Privacy Act regulations regarding verification of identity and amendment of records (5 CFR part 2606).

NOTIFICATION PROCEDURES:

Individuals wishing to inquire whether this system of records contains information about themselves must follow the procedures set forth in OGE's Privacy Act regulations at 5 CFR part 2606.

EXEMPTIONS PROMULGATED FOR THE SYSTEM:

None.

HISTORY:

86 FR 62537.

Approved: May 9, 2022.
Emory Rounds,
Director, U.S. Office of Government Ethics.

[FR Doc. 2022-10190 Filed 5-11-22; 8:45 am]

BILLING CODE 6345-03-P